NATIONAL AERONAUTICS AND SPACE ADMINISTRATION

[Notice (02-117)]

Government-Owned Inventions, Available for Licensing

ACTION: Notice of Availability of Inventions for Licensing.

SUMMARY: The invention listed below is assigned to the National Aeronautics and Space Administration, have been filed in the United States Patent and Trademark Office, and are available for licensing.

DATES: September 27, 2002.

FOR FURTHER INFORMATION CONTACT: James McGroary, Patent Counsel, Marshall Space Flight Center, Code LS01, Huntsville, AL 35812; telephone (256) 544-0013; fax (256) 544-0258.

NASA Case No. MFS-31323-1: Variable Pressure Washer;

NASA Case No. MFS-31380-1: Fabrication Of Large Bulk High Temperature Superconductor Articles;

NASA Case No. MFS-31559-1: Thermal Stir Welding Process And Apparatus;

NASA Case No. MFS-31562-1: Dual Use Corrosion Inhibitor And Penetrant For Anomaly Detection In Neutron/X Radiography;

NASA Case No. MFS-26503-2-CIP: Microgravity Fiber Pulling Apparatus;

NASA Case No. MFS-31316-1: Passive Light Exposure Monitor;

NASA Case No. MFS-31503-1: Combination Solar Sail And Electrodynamic Tether Propulsion System;

NASA Case No. MFS-31243-2-CON: Video Image Stabilization And Registration;

NASA Case No. MFS-31399-1: Video Guidance Sensor System With Laser Rangefinder;

NASA Case No. MFS-31403-2-DIV: Method For Joining Structural Elements;

NASA Case No. MFS-31475-2-DIV: Panoramic Refracting Conical Optic;

NASA Case No. MFS-31596-1: Fabrication Of Fiber Optic Grating Apparatus And Method;

NASA Case No. MFS-31698-1: Method Of Fabricating Protective Coating For A Crucible With The Coating Having Channels Formed Therein;

NASA Case No. MFS-31828-1: High Strength Aluminum Alloy For High Temperature Applications;

NASA Case No. MFS-31464-1: Multi-Layer Identification Label Using Stacked Identification Symbols;

NASA Case No. MFS-31546-1: High Precision Grids For Neutron, Hard X-Ray, And Gamma-Ray Imaging Systems;

NASA Case No. MFS-31565-1: Phase Modulator With Terahertz Optical Bandwidth Formed By Multi-Layered Dielectric Stack;

NASA Case No. MFS-31584-1: Hypergolic Ignitor Assembly;

NASA Case No. MFS-31408-1: Solar Wing And Tether Mechanisms For Asteroid Uncooperative Docking And Asteroid Orbit Adjustments;

NASA Case No. MFS-31499-1: Microfocus—Polycapillary Optic X-ray Analysis;

NASA Case No. MFS-31525-1: Video Image Tracking Engine;

NASA Case No. MFS-31535-1: Method And Apparatus For Optical Position Detection;

NASA Case No. MFS-31544-1: Captive Fastener Device;

NASA Case No. MFS-31549-1: Ultra Thin Substrate Integral Memory And Radio Frequency Identification Devices;

NASA Case No. MFS-31560-1: Hearing Aid Assembly;

NASA Case No. MFS-31594-1: Multilayer Composite Pressure Vessel;

NASA Case No. MFS-31613-1: Cross Cell Sandwich Core;

NASA Case No. MFS-31616-1: Passive Ball Capture Joint.

Dated: September 20, 2002.
Robert M. Stephens,
Deputy General Counsel.

[FR Doc. 02-24526 Filed 9-26-02; 8:45 am]

BILLING CODE 7510-01-P